DEPARTMENT OF COMMERCE

International Trade Administration

[A-427-001]

Sorbitol From France; Time Limits

AGENCY: Import Administration, International Trade Administration, Department of Commerce.

ACTION: Notice of extension of time limit for preliminary results of antidumping duty administrative review.

SUMMARY: The Department of Commerce (the Department) is extending the time limit for the preliminary results of the 1999-2000 administrative review of the antidumping duty order on sorbitol from France. This review covers one exporter of the subject merchandise to the United States, Amylum France and Amylum SPI Europe (collectively, Amylum). The period of review is April 1, 1999 through March 31, 2000.

EFFECTIVE DATE: January 5, 2001.

FOR FURTHER INFORMATION CONTACT: Fred Baker at (202) 482-2924 or Robert James at (202) 482-0649, Antidumping and Countervailing Duty Enforcement Group III, Import Administration, International Trade Administration, U.S. Department of Commerce, 14th Street and Constitution Avenue, NW., Washington, DC 20230.

SUPPLEMENTARY INFORMATION: The Department initiated this administrative review on June 2, 2000 (65 FR 35320). Under section 751(a)(3)(A) of the Tariff Act of 1930, as amended (the Tariff Act), the Department may extend the deadline for completion of an administrative review if it determines that it is not practicable to complete the review within the statutory time limit of 365 days. Because of the complexity of researching whether or not Amylum entries during the period of review (POR), and the need to allow parties the opportunity to comment on the results of our research prior to issuing preliminary results of review, we are extending the time limit for completion of the preliminary results until April 30, 2001. See Memorandum from Richard Weible to Joseph Spetrini, titled, “Extension of Time Limit for the April 1999 through March 2000 Administrative Review,” dated the same date as the publication of this notice, on file in room B-099 of the main Commerce building. The deadline for the final results will continue to be 120 days after the publication of the preliminary results.

This extension is in accordance with section 751(a)(3)(A) of the Tariff Act and section 351.213(h)(2) of the Department's regulations.

Dated: December 29, 2000.
Joseph A. Spetrini,
Deputy Assistant Secretary, Enforcement Group III.

[FR Doc. 01-384 Filed 1-4-01; 8:45 am]

BILLING CODE 3510-DS-P